Title 3—

The President

Proclamation 7473 of September 28, 2001

National Public Lands Day, 2001

By the President of the United States of America

A Proclamation

The United States has the world's greatest public lands. The National Park System, established in 1916, protects some of America's most beautiful and essential natural resources. Our parks connect Americans with their land, giving us a common landscape and shared national treasures. With more than 80 million acres, these majestic and diverse parks, home to thousands of species of flora and fauna, represent our Nation's most important natural legacy to future generations.

Our national parks provide outstanding recreational possibilities for Americans, and more than 287 million visitors each year come to these beautiful places to explore those possibilities. My Administration recognizes and accepts the importance of making these great lands more accessible to all our citizens. Our Government bears a clear and direct responsibility for the stewardship of our parks. The Government alone, however, cannot fulfill the promise of preserving this outdoor legacy—a legacy first bequeathed to us by President Theodore Roosevelt and other early visionaries who understood the importance of these great landscapes, ecosystems, and historic and cultural settings. Only by developing partnerships among States, local communities, tribal governments, public agencies, the nonprofit sector, the private sector, and individual landowners can we truly maintain and protect our Nation's best places.

National Public Lands Day provides every American with a unique and valuable opportunity to promote environmental education and, more importantly, to put their hands to work on projects directly benefiting public lands. I encourage Americans to volunteer to build trails, restore habitat, improve accessibility for visitors with special needs, and repair weather-related damage. This year, more than 60,000 volunteers are expected to work at approximately 335 sites in all 50 States, the District of Columbia, and Puerto Rico. In cooperation with their community partners, these individuals will contribute nearly $9 million of needed improvements to America's public lands.

National Public Lands Day also serves as a special time for our country to recognize the accomplishments of the Civilian Conservation Corps, the hard-working men who built more than 800 of America's national and State parks during the 1930s and 1940s. Ceremonies honoring the Corps will be held at Virginia's Shenandoah National Park, as well as at 30 other locations throughout the country.

I encourage Americans to follow the worthy example set by those CCC members and pitch in by volunteering to improve our parks. Through these efforts, we can all do our part to ensure that the Nation's parks, forests, lakes, fields, and rivers remain vibrant and enduring legacies of America's natural beauty for ages to come.

NOW, THEREFORE, I, GEORGE W. BUSH, President of the United States of America, by virtue of the authority vested in me by the Constitution and laws of the United States, do hereby proclaim September 29, 2001, as National Public Lands Day. I call upon the people of the United States to observe this day with appropriate programs and activities to improve the public lands they use for recreation, education, and enjoyment.

IN WITNESS WHEREOF, I have hereunto set my hand this twenty-eighth day of September, in the year of our Lord two thousand one, and of the Independence of the United States of America the two hundred and twenty-sixth.

B

[FR Doc. 01-24915

Filed 10-2-01; 8:45 am]

Billing code 3195-01-P